FEDERAL COMMUNICATIONS COMMISSION

Notice of Public Information Collection(s) Being Reviewed by the Federal Communications Commission for Extension Under Delegated Authority, Comments Requested

August 12, 2008.

SUMMARY: The Federal Communications Commission, as part of its continuing effort to reduce paperwork burden invites the general public and other Federal agencies to take this opportunity to comment on the following information collection(s), as required by the Paperwork Reduction Act of 1995, 44 U.S.C. 3501-3520. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments October 24, 2008. If you anticipate that you will be submitting comments, but find it difficult to do so within the period of time allowed by this notice, you should advise the contact listed below as soon as possible.

ADDRESSES: Direct all PRA comments to Nicholas A. Fraser, Office of Management and Budget (OMB), (202) 395-5887, or via fax at 202-395-5167, or via the Internet at Nicholas_A._Fraser@omb.eop.gov and to Judith-B.Herman@fcc.gov, Federal Communications Commission (FCC). To submit your comments by e-mail send them to: PRA@fcc.gov.

To view a copy of this information collection request (ICR) submitted to OMB: (1) Go to the Web page http://www.reginfo.gov/public/do/PRAMain, (2) look for the section of the Web page called “Currently Under Review”, (3) click the downward-pointing arrow in the “Select Agency” box below the “Currently Under Review” heading, (4) select “Federal Communications Commission” from the list of agencies presented in the “Select Agency” box, (5) click the “Submit” button to the right of the “Select Agency” box and (6) when the list of FCC ICRs currently under review appears, look for the title of this ICR (or its OMB Control Number, if there is one) and then click on the ICR Reference Number to view detailed information about this ICR.

FOR FURTHER INFORMATION CONTACT: For additional information, send an e-mail to Judith B. Herman at 202-418-0214.

SUPPLEMENTARY INFORMATION: OMB Control No.: 3060-0223.

Title: Section 90.129, Supplemental Information to be Routinely Submitted with Applications, Non-type Accepted Equipment.

Form No.: N/A.

Type of Review: Extension of a currently approved collection.

Respondents: Individuals or households, business or other for-profit, not-for-profit institutions, and State, local or tribal governments.

Number of Respondents: 10 respondents; 10 responses.

Estimated Time per Response: .33 hours.

Frequency of Response: On occasion reporting requirement.

Obligation To Respond: Required to obtain or retain benefits.

Total Annual Burden: 4 hours.

Annual Cost Burden: N/A.

Privacy Act Impact Assessment: Yes.

Nature and Extent of Confidentiality: There is no need for confidentiality. This information collection does contain personally identifiable information (PII) on individuals. The FCC maintains a system of records notice (SORN), FCC/WTB-1, “Wireless Services Licensing Records,” that covers the collection, purpose(s), storage, safeguards, and disposal of the PII that individual private land mobile radio licensees maintain under 47 CFR 90.129.

Needs and Uses: This collection will be submitted as an extension (no change in reporting requirements) after this 60 day comment period to Office of Management and Budget (OMB) in order to obtain the full three year clearance.

Section 90.129 requires that applicants proposing to use transmitting equipment that is not type-certified by FCC laboratory personnel to provide a description of the proposed equipment. This assures that the equipment is capable of performing within certain tolerances that limit the interference potential of the device.

Additionally, this rule section requires that each application under this part that is received by the Commission, through the application process outlined in 47 CFR part 1, subpart F, must be accompanied by the applicable supplementary information described in the paragraphs in 47 CFR 90.129. The information is used by FCC engineers to determine the interference potential of the proposed equipment.

OMB Control No.: 3060-0770.

Title: Sections 61.49 and 69.4, Price Cap Performance Review for Local Exchange Carriers, FCC 99-206 (New Services).

Form No.: N/A.

Type of Review: Extension of a currently approved collection.

Respondents: Business or other for-profit.

Number of Respondents: 21 respondents; 21 responses.

Estimated Time per Response: 10 hours.

Frequency of Response: On occasion reporting requirement.

Obligation To Respond: Required to obtain or retain benefits.

Total Annual Burden: 210 hours.

Annual Cost Burden: $16,275.

Privacy Act Impact Assessment: N/A.

Nature and Extent of Confidentiality: There is no need for confidentiality. The Commission is not requesting that the respondents submit confidential information to the FCC. However, respondents who wish to request confidential treatment of the information they believe to be confidential, may do so under 47 CFR 0.459 of the Commission's rules.

Needs and Uses: This collection will be submitted as an extension (no change in reporting requirements) after this 60 day comment period to Office of Management and Budget (OMB) in order to obtain the full three year clearance.

In the Fifth Report and Order in FCC 99-206, the Commission permitted price cap local exchange carriers (LECs) to introduce new services on a streamlined basis, without prior approval. The Commission adopted rules to eliminate the public interest showing required by section 69.4(g) and eliminated the new services test (except in the case of loop-based new services) required under sections 69.49(f) and (g). These modifications eliminated delays that existed for the introduction of new services as well as encouraging efficient investment and innovation.

The information is used by the Commission to determine whether this is in the public interest for the incumbent LEC to offer a proposed new switched access service.

Federal Communications Commission.
Marlene H. Dortch,
Secretary.

[FR Doc. E8-19549 Filed 8-22-08; 8:45 am]

BILLING CODE 6712-01-P